DEPARTMENT OF COMMERCE

National Oceanic and Atmospheric Administration

RIN 0648-XA898

Endangered Species; File Nos. 13599 and 1614

AGENCY: National Marine Fisheries Service (NMFS), National Oceanic and Atmospheric Administration (NOAA), Commerce.

ACTION: Notice; issuance of permit modifications.

SUMMARY: Notice is hereby given that National Ocean Service Marine Forensic Lab [Responsible Party: Julie Carter], 219 Fort Johnson Road, Charleston, SC 29412 [Permit No. 13599], and the NOAA Fisheries Northeast Region Protected Resources Division [Responsible Party: Mary Colligan], One Blackburn Drive, Gloucester, MA 01930 [Permit No. 1614], have been issued modifications to their scientific research permits.

ADDRESSES: The modifications and related documents are available for review upon written request or by appointment in the following offices:

Permits and Conservation Division, Office of Protected Resources, NMFS, 1315 East-West Highway, Room 13705, Silver Spring, MD 20910; phone (301) 427-8401; fax (301) 713-0376;

Northeast Region, NMFS, One Blackburn Drive, Gloucester, MA 01930-2298; phone (978) 281-9300; fax (978) 281-9394; and

Southeast Region, NMFS, 263 13th Ave South, St. Petersburg, FL 33701; phone (727) 824-5312; fax (727) 824-5309.

FOR FURTHER INFORMATION CONTACT: Jennifer Skidmore or Colette Cairns, (301) 427-8401.

SUPPLEMENTARY INFORMATION: On December 27, 2011, notice was published in the Federal Register (76 FR 80890) that modifications of Permit Nos. 13599 and 1614, had been requested by the above-named organizations. The requested modifications have been granted under the authority of the Endangered Species Act of 1973, as amended (ESA; 16 U.S.C. 1531 et seq.) and the regulations governing the taking, importing, and exporting of endangered and threatened species (50 CFR 222-226).

Permit No. 13599, issued December 16, 2008 (73 FR 78724), authorizes the permit holder to receive, import, export, transfer, archive, and conduct analyses of marine mammal and endangered species parts. Permit No. 1614, issued February 28, 2008 (73 FR 11873), authorizes the permit holder to collect, receive and transport 100 dead shortnose sturgeon, or parts thereof, annually. Researchers are also authorized the receipt and transport of up to 350 captive bred, dead shortnose sturgeon annually from any U.S. facility authorized to hold captive sturgeon.

The permit modifications add Atlantic sturgeon (Acipenser oxyrinchus oxyrinchus), an ESA-listed species not included in the previous permits, for the receipt, importation, exportation, and transfer of Atlantic sturgeon parts and carcasses. No live animal takes or incidental harassment of animals is authorized under these permits. The permit holders are authorized for Atlantic sturgeon parts and samples would be used to support law enforcement actions, research studies (primarily genetics), and outreach education. Atlantic sturgeon samples would be obtained from individuals authorized to collect them in the course of scientific research, salvage activities, or taken during other authorized activities.

Issuance of these modifications, as required by the ESA, was based on a finding that such modifications (1) were applied for in good faith, (2) will not operate to the disadvantage of such endangered or threatened species, and (3) are consistent with the purposes and policies set forth in section 2 of the ESA.

Dated: April 5, 2012.
Tammy C. Adams,
Acting Chief, Permits and Conservation Division, Office of Protected Resources, National Marine Fisheries Service.

[FR Doc. 2012-8773 Filed 4-10-12; 8:45 am]

BILLING CODE 3510-22-P